DEPARTMENT OF HEALTH AND HUMAN SERVICES

Office of the Secretary

Agency Information Collection Activities: Proposed Collections; Comment Request

The Department of Health and Human Services, Office of the Secretary will periodically publish summaries of proposed information collection projects and solicit public comments in compliance with the requirements of Section 3506(c)(2)(A) of the Paperwork Reduction Act of 1995. To request more information on the project or to obtain a copy of the information collection plans and instruments, call the OS Reports Clearance Officer on (202) 690-6027.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project 1. Research Misconduct: An Inquiry into Etiology and Stigma—NEW—The Office of Research Integrity (ORI), PHS is responsible for developing activities to prevent research misconduct and improve research integrity. The purpose of this survey is to study research misconduct. The survey will contribute to a better understanding of scientific misconduct, its causes, its effects on the careers of those found guilty of such misconduct and possible preventive and control measures. Respondents: Individuals; Burden Information—Number of Respondents: 84; Burden per Response: 2 hours; Total Burden: 168 hours.

Send comments to Cynthia Agens Bauer, OS Reports Clearance Officer, Room 503H, Humphrey Building, 200 Independence Avenue S.W., Washington, D.C., 20201. Written comments should be received within 60 days of this notice.

Dated: August 18, 2000.
Kerry Weems,
Acting Deputy Assistant Secretary, Budget.

[FR Doc. 00-21933 Filed 8-25-00; 8:45 am]

BILLING CODE 4150-24-M